DEPARTMENT OF HOMELAND SECURITY

U.S. Customs and Border Protection

DEPARTMENT OF THE TREASURY

19 CFR Part 12

[CBP Dec. 24-15]

RIN 1515-AE83

Imposition of Import Restrictions on Archaeological and Ethnological Material of Yemen

AGENCY: U.S. Customs and Border Protection, Department of Homeland Security; Department of the Treasury.

ACTION: Final rule.

SUMMARY: This document amends the U.S. Customs and Border Protection (CBP) regulations to reflect the continuation of import restrictions on certain categories of archaeological and ethnological material of Yemen, pursuant to an agreement between the United States and the Republic of Yemen (the Agreement). The restrictions were originally imposed on an emergency basis by CBP Decision 20-01 on February 5, 2020, and will now continue, with various amendments, through April 15, 2029. The Designated List of archaeological and ethnological material of Yemen to which the restrictions apply is reproduced below, with certain modifications to make it consistent with the Agreement.

DATES: Effective on September 10, 2024.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (Convention), allows for the conclusion of an agreement between the United States and another party to the Convention to impose import restrictions on eligible archaeological and ethnological material. In certain limited circumstances, the CPIA authorizes the imposition of restrictions on an emergency basis (19 U.S.C. 2603). The emergency restrictions are effective for no more than five years from the date of the State Party's request and may be extended for three years where it is determined that the emergency condition continues to apply with respect to the covered material (19 U.S.C. 2603(c)(3)). These restrictions may also be continued, in whole or in part, pursuant to an agreement concluded within the meaning of the CPIA (19 U.S.C. 2603(c)(4)).

On February 7, 2020, U.S. Customs and Border Protection (CBP) published a final rule, CBP Decision (CBP Dec.) 20-01, in the Federal Register (85 FR 7209), which amended § 12.104g(b) of title 19 of the Code of Federal Regulations (19 CFR 12.104g(b)) to reflect the imposition of import restrictions on certain archaeological material and ethnological material of Yemen under the emergency protection provisions of the CPIA.

Following imposition of the emergency import restrictions, the United States entered into a bilateral agreement with the Republic of Yemen ¹ under the CPIA to continue the emergency import restrictions on certain archaeological and ethnological material of Yemen through April 15, 2029, with modifications to the Designated List. This period may be extended for additional periods, each extension not to exceed 5 years, if it is determined that the factors justifying the initial agreement still pertain and no cause for suspension of the agreement exists (19 U.S.C. 2602(e); § 12.104g(a) of title 19 of the Code of Federal Regulations (19 CFR 12.104g(a))).

¹ Due to an ongoing conflict within Yemen, this rule shall use the “Republic of Yemen” to denote the State party to the agreement and “Yemen” when discussing the archaeological/ethnological material and cultural heritage subject to the import restrictions.

Determinations

Under 19 U.S.C. 2602(a)(1), the United States must make certain determinations before entering into an agreement to impose import restrictions under 19 U.S.C. 2602(a)(2). On November 18, 2022, the Assistant Secretary for Educational and Cultural Affairs, United States Department of State, after consultation with and recommendation by the Cultural Property Advisory Committee, made the determinations required under the statute with respect to certain archaeological and ethnological material originating in Yemen that is described in the Designated List set forth below in this document.

These determinations include the following: (1) that the cultural patrimony of Yemen is in jeopardy from the pillage of archaeological material, dating from approximately 200,000 B.C. to A.D. 1773, and ethnological material representing Yemen's cultural heritage, ranging in date from approximately A.D. 1517 through 1918 (19 U.S.C. 2602(a)(1)(A)); (2) that the Republic of Yemen Government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the material included in the determinations meets the statutory definition of “archaeological or ethnological material of the State Party” (19 U.S.C. 2601(2)).

The Agreement

On August 30, 2023, the Governments of the United States and the Republic of Yemen signed a bilateral agreement, “Memorandum of Understanding Between the Government of the United States of America and the Government of the Republic of Yemen Concerning the Imposition of Import Restrictions on Categories of Archaeological and Ethnological Material of Yemen,” (the Agreement) pursuant to the provisions of 19 U.S.C. 2602(a)(2). The Agreement entered into force on April 15, 2024, following the exchange of diplomatic notes, and modifies the previously imposed emergency import restrictions on archaeological material dated from approximately 200,000 B.C. to A.D. 1773, as well as certain ethnological material of Yemeni cultural heritage from A.D. 1517 through 1918. A list of the categories of archaeological and ethnological material subject to the import restrictions is set forth later in this document.

Restrictions and Amendment to the Regulations

Import restrictions on the archaeological and ethnological material of Yemen previously reflected in § 12.104g(b) will be continued through the Agreement without interruption. Accordingly, § 12.104g(a) of the CBP regulations is being amended to indicate that restrictions have been imposed pursuant to the Agreement, and the emergency import restrictions on certain categories of archaeological and ethnological material of Yemen are being removed from § 12.104g(b), as those restrictions are now encompassed in § 12.104g(a). Pursuant to the Agreement, and consistent with the CPIA, the Designated List originally published with the emergency restrictions in CBP Dec. 20-01 is being amended to correct certain typographical errors, to extend the date range for archaeological material to A.D. 1773, to clarify certain categories of archaeological material, to add the subcategory “Inscribed Documents” to the list of archaeological materials, to clarify that the ethnological material listed excludes Jewish ceremonial and ritual objects and manuscripts, and to reorganize the list of ethnological material by type of object instead of by material.

Designated List of Archaeological and Ethnological Material of Yemen

The Agreement between the United States and the Republic of Yemen includes, but is not limited to, the categories of objects described in the Designated List set forth below.

The Designated List includes archaeological and ethnological material from Yemen. The archaeological material in the Designated List includes, but is not limited to, objects made of stone, metal, ceramic, clay, glass, faience, semi-precious stone, paintings, plaster, textiles, leather, parchment, paper, wood, bone, ivory, shell, human remains, and/or other organic materials dated from approximately 200,000 B.C. to A.D. 1773. The ethnological material in the Designated List includes, but is not limited to, architectural materials, manuscripts, and religious and ceremonial objects from approximately A.D. 1517 to 1918. This would exclude Jewish ceremonial or ritual objects and manuscripts. The Designated List is representative only. Any dates and dimensions are approximate. For the reader's convenience, CBP is reproducing the Designated List contained in CBP Dec. 20-01 in its entirety with the previously detailed modifications.

Categories of Archaeological and Ethnological Material

I. Archaeological Material

A. Stone

B. Metal

C. Ceramic and Clay

D. Glass, Faience, and Semi-Precious Stone

E. Painting

F. Plaster

G. Textiles

H. Leather, Parchment, and Paper

I. Wood, Bone, Ivory, Shell, and Other Organics

J. Human Remains

II. Ethnological Material

A. Architectural Elements

B. Manuscripts

C. Religious and Ceremonial Objects

I. Archaeological Material

Restricted archaeological material from Yemen includes the categories listed below, ranging in date from approximately 200,000 B.C. to A.D. 1773 and representing the following periods and cultures: Paleolithic, Neolithic, South Arabian, Abyssinian, Sasanian, and Islamic (including but not limited to Umayyad, Abbasid, Ziyadid, Zaydi, Najahid, Sulaihid, Zurayid, Ayyubid, Rasulid, and Tahirid). The following list is representative only.

A. Stone

1. Architectural Elements—Primarily in limestone, marble, and sandstone; including, but not limited to, blocks from walls, floors, and ceilings; columns, capitals, bases, lintels, jambs, friezes, and pilasters; doors, door frames, and window fittings; engaged columns, altars, prayer niches, screens, fountains, mosaics, and inlays. May be plain, molded, carved, or inscribed in various languages and scripts. Common decorative motifs include ibex heads and full animals, oxen or bull heads, rosettes, geometric designs, and curvilinear vine and floral patterns; may be incised or carved in relief. Approximate dates: 1200 B.C. to A.D. 1773.

2. Non-architectural Relief Sculpture—In alabaster, limestone, marble, calcite, and other kinds of stone. Types include, but are not limited to, carved slabs and plaques, funerary and votive stelae, and bases and base revetments. These may be painted, incised, or carved with relief sculpture, decorated with moldings, and/or carry dedicatory or funerary inscriptions. South Arabian Period styles include, but are not limited to, face plaques and stelae; may be combined with ceramic or plaster sculpture; may be inscribed or painted. Common decorative motifs either incised or in high relief include oxen or bull heads, other animals, mythological creatures, human figures, which are usually clothed, and vegetative and floral patterns; may be inscribed in South Arabian script. Approximate dates: 1200 B.C. to A.D. 570.

3. Statuary—Primarily in alabaster, but also in calcite, limestone, sandstone, softstone (chlorite and others), and marble. Large- and small-scale, including, but not limited to, deities; human figures, which are usually clothed; animals such as bulls, ibex, and camels; and hybrid or mythological creatures. May be inscribed in South Arabian script. Includes fragments of statues. Some pieces may also include different material types, such as multiple types of stone, metal staffs, shell or bone eyes, and metal, glass, and semi-precious stone jewelry inlay. Approximate dates: 4000 B.C. to A.D. 570.

4. Vessels and Containers—Primarily in alabaster, softstone (chlorite and others), and limestone; may also be marble, basalt, or other stone. Vessels may be conventional shapes such as bowls, cups, jars, jugs, platters, and flasks, or shapes such as smaller funerary urns and incense burners. Common forms include, but are not limited to:

a. South Arabian Period containers for unguents, powders, and liquids in all shapes and sizes. They are flat-bottomed and often have lids. Some pieces have protruding pierced lug handles, which may or may not be in the shape of an animal, usually a bull or ibex. Vessels may be otherwise decorated or inscribed with South Arabian, or other script. Other forms include, but are not limited to, pedestal dishes, bowls, saucers, and three-legged cosmetic palettes, as well as small, rectangular, square-sided boxes, usually decorated with bull's heads, used as containers for smaller bottles. Incense burners from the South Arabian period are usually cuboid and decorated with astral symbols or South Arabian script. Includes miniature vessels and incense burners. Approximate dates: 1200 B.C. to A.D. 570.

b. Stone vessels continue in similar form through the Sasanian and Islamic Periods, particularly in softstone (chlorite and others) and alabaster. Includes all vessel types and lamps, usually with geometric incised decoration; may be inscribed with Arabic or other script. Approximate dates: A.D. 570 to 1773.

5. Furniture—In marble, alabaster, and other stone. May include thrones, tables, and other examples. Also includes furniture elements such as legs and feet that may have been attached to a wooden frame; may be funerary. May include South Arabian Period libation and sacrificial altars or tables, which are oblong or square slabs with raised rims; altars have a run-off channel for liquid, usually in the form of an animal, such as a bull's head or ibex. Includes miniature tables. Approximate dates: 1200 B.C. to A.D. 1773.

6. Tools and Weapons—In flint/chert, obsidian, limestone, tuff, basalt, and other stones. Chipped stone types include, but are not limited to, blades, borers, scrapers, sickles, cores, and arrowheads. Ground stone types include, but are not limited to, grinders (e.g., mortars, pestles, millstones, whetstones), choppers, axes, celts, hammers, mace heads, and weights. Approximate dates: 200,000 B.C. to A.D. 1773.

7. Jewelry, Seals, and Beads—In marble, limestone, and various semi-precious stones, such as rock crystal, amethyst, garnet, jasper, agate, steatite, and carnelian. Seals or intaglios (small devices with at least one side engraved with a design for stamping or sealing) may be engraved with animals, human figures, and/or inscriptions in various languages. Beads include cylindrical, spherical, conical, disc, and other types; may have cut, incised, or raised decoration. Types include, but are not limited to, amulets, bracelets, and pendants. Approximate dates: 8000 B.C. to A.D. 1773.

B. Metal

1. Non-Architectural Relief Sculpture—Types include cast relief plaques or tablets, appliques, stelae, and masks; often in bronze or copper. Decoration may include human and animal figures, geometric, and floral motifs. May be inscribed/cast in South Arabian, Arabic, or other script. Approximate dates: 1200 B.C. to A.D. 1773.

2. Statuary—Primarily in copper, bronze, silver, or gold; includes fragments of statues. Range from larger-than-life-size to small figurines; forms include, but are not limited to, human figures, which may be clothed or not; animals such as camels, ibex, oxen, bulls, and lions; mythological creatures/figures; and trophies such as votive hands. May be painted or inscribed/cast in relief in South Arabian, Arabic, or other script. Approximate dates: 1200 B.C. to A.D. 570.

3. Vessels and Containers—Primarily in copper, bronze, or iron; Islamic Period includes more examples in silver and gold. May include forms such as bowls, cups, jars, jugs, strainers, buckets, cauldrons, boxes, oil lamps, incense burners, and scroll or manuscript containers; may occur in the shape of an animal or part of an animal. May be miniature. Decoration may include human or animal figures, or geometric or floral motifs, incised or in relief. Incense burners may be square or cylindrical; front decorated with astral symbols and/or animals. May be inscribed/cast in relief in South Arabian, Arabic, or other script. Approximate dates: 1200 B.C. to A.D. 1773.

4. Furniture—Primarily in bronze and iron; may include thrones, tables, and other examples. Includes pieces of furniture and decorative fittings such as legs and feet that may have been attached to a wooden frame; or thin metal sheets with engraved or impressed designs. Approximate dates: 1200 B.C. to A.D. 1773.

5. Tools and Instruments—In copper, bronze, iron, silver, gold, and other metals. Types include, but are not limited to, hooks, weights, axes, scrapers, trowels, keys, ladles, tools of craftspeople such as carpenters, masons, and metal smiths. Approximate dates: 3000 B.C. to A.D. 570.

6. Weapons and Armor—Primarily in copper, bronze, and iron. Body armor, such as helmets, cuirasses, shin guards, shields, and horse armor; often decorated with elaborate engraved, embossed, or perforated designs. Launching weapons (spears, javelins, socketed arrowheads); hand-to-hand combat weapons (swords, daggers, jambiyas); and sheaths. Approximate dates: 1200 B.C. to A.D. 1773.

7. Jewelry and Other Items for Personal Adornment—In copper, iron, bronze, silver, gold, and other metals. Metal can be inlaid with materials such as colored stones and glass. Types include, but are not limited to, necklaces, amulets and pendants, rings, bracelets, anklets, earrings, diadems, wreaths and crowns, beads, buttons, purses, belts, belt buckles, mirrors, and make-up accessories and tools. Approximate dates: 1200 B.C. to A.D. 1773.

8. Seals and Stamps—Primarily in lead, tin, copper, bronze, silver, and gold. Types include, but are not limited to, rings, amulets, and seals with a shank or handle; designs may include animals, human figures, and/or inscriptions in various languages. Approximate dates: 1200 B.C. to A.D. 1773.

9. Coins—A reference book for ancient, pre-Islamic material in Yemen is M. Huth, Coinage of the Caravan Kingdoms: Ancient Arabian Coins from the Collection of Martin Huth, New York, 2010, pp. 68-152. A reference book for Islamic coinage to A.D. 1773 is S. Album, Checklist of Islamic Coins, Santa Rosa, 2011, pp. 116-127. Some of the best-known types are described below:

a. South Arabian Period—In gold, silver, and bronze/copper, with units ranging from tetradrachms down to various fractional levels.

i. Earliest coins from Yemen are imitations of silver tetradrachms from Athens, featuring a bust of Athena on the obverse and an owl on the reverse. The style of these imitations is distinctive, and they are usually marked with South Arabian monograms or graffiti. Approximate dates: 500 B.C. and later.

ii. Mineans produced schematic imitations of the Athenian coinage; these coins have angular shapes, often triangular. Style is distinctive with monograms with South Arabian letters. Approximate date: 200 B.C.

iii. Sabaeans struck distinctive local imitations of Athenian tetradrachms, with or without monograms, often with the curved symbol of Almaqah to the right of the owl, and of smaller units than previously. In the 1st century A.D., the head of Athena is replaced with a male bust resembling Augustus; owl on the reverse continues, as do monograms and the curved symbol. In the 2nd and 3rd centuries A.D., a beardless male head appears on the coins with the curved symbol, and a facing bucranium (a bull's head) appears on the reverse with the curved symbol and monograms. Approximate dates: 400 B.C. to A.D. 300.

iv. Himyarite coins feature beardless male heads on the obverse coupled with bearded male heads on the reverse. Various South Arabian monograms appear on the coins. Rulers include, but are not limited to, Yuhabirr, Karib'il Yehun'im Wattar, Amdan Yuhaqbid, Amdan Bayan, Tha'ran Ya'ub, Shamnar Yuhan'am, and unknown kings. Approximate dates: 110 B.C. to A.D. 200.

v. Qatabanians also produced imitations of Athenian coins in the 2nd to 4th century B.C., with or without monograms; distinctive style. From the 2nd century B.C. to the 2nd century A.D., the head of Athena is replaced with male ruler portraits, including, but not limited to, those of Yad'ab Dhubyan Yuhargib, Dhub, Hawfi'amm Yuhan'am III, Shahr Yagul, Waraw'il Ghaylan, Shahr Hilal, Yad'ab Yanaf, and various unknown rulers. Reverses of early types have the owl, while later types have a second portrait on the reverse. Approximate dates: 400 B.C. to A.D. 200.

vi. Bronze coins from Hadhramaut have radiate male portraits in a circle on the obverse and a standing bull on the reverse; South Arabian symbols appear. Approximate dates: A.D. 200 to 400.

vii. Various South Arabian types imitate Athenian coins, Hellenistic Alexander tetradrachms with a head of Herakles on the obverse and Zeus seated on the reverse, and Ptolemaic coins with a cornucopia on the reverse. Style is distinctive; designs are accompanied by South Arabian monograms.

b. Islamic Period—In gold, silver, and bronze. Including anonymous mints in Yemen and coins of unknown rulers attributed to Yemen. Non-exclusive mints are the primary manufacturers of the listed coins, but there may be other production mints.

i. Abbasid coins struck in gold, silver, and bronze, at non-exclusive mints San'a, Zabid, `Adan, Dhamar, `Aththar, and Baysh. Approximate dates: A.D. 786 to 974.

ii. Coins of the Amirs of San'a, struck in gold, at the mint of San'a. Approximate dates: A.D. 909 to 911.

iii. Rassid (1st period) coins struck in gold and silver at Sa'da, San'a, Tukhla', and `Aththar. Approximate dates: A.D. 898 to 1014.

iv. Coins of the Amirs of Yemen, struck in silver, at an uncertain mint. Approximate dates: A.D. 1000 to 1100.

v. Coins of the Amirs of `Aththar, struck in gold, at the mint of `Aththar. Approximate dates: A.D. 957 to 988.

vi. Tarafid coins, struck in silver, at the mint of `Aththar. Approximate dates: A.D. 991 to 1004.

vii. Ziyadid coins, struck in gold and silver, at non-exclusive mint Zabid. Approximate dates: A.D. 955 to 1050s.

viii. Khawlanid coins, struck in silver, at the mint of San'a. Approximate dates: A.D. 1046 to 1047.

ix. Najahid coins, struck in gold, at the mints Zabid and Dathina. Approximate dates: A.D. 1021 to 1158.

x. Sulaihid coins, struck in gold and debased silver, at non-exclusive mints Zabid, `Aththar, `Adan, Dhu Jibla. Approximate dates: A.D. 1047 to 1137.

xi. Zuray'id coins, struck in gold, at the mints of `Adan and Dhu Jibla. Approximate dates: A.D. 1111 to 1174.

xii. Coins of Mahdid of Zabid, struck in silver, at the mint of Zabid. Approximate dates: A.D. 1159 to 1174.

xiii. Rassid (2nd period) coins, struck in gold and silver, at non-exclusive mints Zufar, San'a, Sa'da, Huth, Dhirwah, Kahlan, Muda', `Ayyan, Bukur, al-Jahili, and Dhamar. Approximate dates: A.D. 1185 to 1390.

xiv. Ayyubid coins, struck in gold, silver, and bronze, at the mints of Zabid, `Adan, Ta`izz, San'a, al-Dumluwa, Bukur, and Mayban. Approximate dates: A.D. 1174 to 1236.

xv. Rasulid coins, struck in gold, silver, and bronze, at non-exclusive mints `Adan, Zabid, al-Mahjam, Ta'izz, San'a, Tha'bat, and Hajja. Approximate dates: A.D. 1229 to 1439.

xvi. Tahirid coins, struck in silver, at the mint of `Adan. Approximate dates: A.D. 1517 to 1538.

xvii. Rassid (3rd period) coins, struck in silver and bronze, at the mints of San'a, Zafir, and Thula. Approximate dates: A.D. 1506 to 1572.

xviii. Ottoman coins, struck in gold, silver and bronze, at the mints of Zabid, San'a, `Adan, Kawkaban, Ta'izz, Sa'da, al-Mukha, and Malhaz. Approximate dates: A.D. 1520 to 1773.

C. Ceramic and Clay

1. Architectural Elements—Baked clay (terracotta) elements used to decorate buildings. Elements include, but are not limited to, acroteria, antefixes, painted and relief plaques, revetments, carved and molded brick, and wall ornaments and panels. Approximate dates: 1200 B.C. to A.D. 1773.

2. Non-architectural Relief Sculpture—Types include, but are not limited to, carved slabs and plaques, funerary and votive stelae, and bases and base revetments. Common decorative motifs include ibex heads and full animals, oxen or bull heads, rosettes, and curvilinear vine and floral patterns, and may be incised or in high relief; inscribed with South Arabian, Arabic, or other script. Includes face plaques and stelae: funerary images of faces; may be combined with ceramic or plaster sculpture; may be inscribed or painted. Approximate dates: 1200 B.C. to A.D. 1773.

3. Statuary—Range from large to small figurines; forms include, but are not limited to, human figures, usually clothed; animals such as camels, ibex, oxen, bulls, and lions; or mythological creatures/figures; and trophies such as votive hands. May be glazed or painted; may include South Arabian script. Approximate dates: 1200 B.C. to A.D. 570.

4. Vessels—Types include, but are not limited to, utilitarian types and fine tableware, incense burners, and oil lamps.

a. Post-Neolithic/Bronze Age—Common wares include, but are not limited to, hand-built gray-brown or reddish-brown coarseware with large black or white inclusions, occasionally burnished; and fineware, which can have slipwash or burnish with incised or punctate decoration. Some pieces may also have imprints of basketry. Common forms include, but are not limited to, platters and shallow bowls with flat bases, deep bowls and basins with rounded bases, rimmed hemispheric bowls with rounded bases, hole-mouthed jars, necked jars, and large storage jars. Approximate dates: 3500 to 900 B.C.

b. South Arabian Period—Common wares include, but are not limited to, hand-built reddish-brown, yellow, and gray fabrics, which may be unfinished, burnished, or slip-glazed; the most common is red-burnished slip with carinated vessel shapes. Common forms include, but are not limited to, small-rimmed jugs with flat base; small beakers and goblets; rimmed bowls, jars, and vases with ring bases; cooking pots with flat bases and straight walls; hemispherical bowls with ledge handles, often with black burnished slip; plates/platters with flat bases; goblets; amphorae; and oil lamps. Decoration includes, but is not limited to, paint, punctation, incised or pressed designs including South Arabian script, and raised dots. Imported Roman terra sigillata ware, Nabatean painted pottery, Iranian fine orange-painted ware, and Indian red-polished ware are also common. Incense burners from this period may be square or cylindrical and decorated with astral symbols or South Arabian script. Includes miniature vessels. Approximate dates: 1200 B.C. to A.D. 570.

c. Sasanian-Islamic Period—Includes stoneware, pottery, porcelain, and other wares, which may be unglazed utilitarian wares or glazed types; local types include, but are not limited to, reddish, pink, and white fabrics with glaze styles including turquoise slip-painted, bright yellow glaze, green-painted glaze, salad ware (light green), pseudo-celadon glazed, brown-painted, and blue glazed on white slip; may include Arabic calligraphy. Imported types are also common and include, but are not limited to, Abbasid Period alkaline blue Sasanian-Islamic jars (A.D. 700 to 1100); Abbasid Period opaque white-glazed bowls, either plain or decorated with cobalt (A.D. 800 to 900); and sgraffiato types in various forms with red fabric and incised and painted designs on white slip including floral, geometric, human, and animal motifs (A.D. 1100 to 1400); other types from China, the Arabo-Persian Gulf, the Indian Ocean, and East Africa are also present. Oil lamps from this period typically have rounded bodies with a hole on the top and in the nozzle and may have handles or lugs and figural motifs; include glazed ceramic lamps, which may have a straight or round bulbous body with flared top and several branches. Approximate dates: A.D. 570 to 1773.

D. Glass, Faience, and Semi-Precious Stone

1. Architectural Elements—Mosaics; designs include, but are not limited to, landscapes, scenes of deities, humans, or animals, and activities such as hunting and fishing. There may also be vegetative, floral, or geometric motifs; often with religious imagery. Approximate dates: A.D. 500 to 1773.

2. Vessels—Forms include, but are not limited to, small jars, bowls, animal-shaped vessels, goblets, spherical forms, candle holders, perfume and unguent jars, and lamps; may have cut, incised, raised, enameled, molded, or painted decoration; various colors. South Arabian Period and early Islamic Period types may be colorless, blue, green, or orange and may be engraved; may include floral and/or geometric motifs; may include Arabic calligraphy. Approximate dates: 1200 B.C. to A.D. 1773.

3. Jewelry—Forms include beads that may be cylindrical, spherical, conical, disc-shaped, and other shapes; may have cut, incised, or raised decoration; various colors; molded and carved glass gemstones; may include other types of glass inlay. Approximate dates: 1200 B.C. to A.D. 1773.

E. Painting

1. Rock Art—Incised, pecked, or painted drawings on natural rock surfaces. Decoration includes crosses; humans; animals, particularly camels, ibex, and snakes; geometric and/or floral designs; and other designs; includes fragments. May include pre-Islamic graffiti, commonly in South Arabian script. Approximate dates: 12,000 B.C. to A.D. 100.

2. Wall Painting—Decoration includes crosses; humans; animals, particularly camels, ibex, and snakes; geometric and/or floral designs; and other designs; includes fragments. Painted on wood, stone, and plaster. May be on domestic or public walls or tombs. Approximate dates: 1200 B.C. to A.D. 1773.

F. Plaster

1. Stucco—Stucco reliefs, plaques, stelae, and inlays or other architectural decoration in stucco. Approximate dates: 1200 B.C. to A.D. 1773.

2. Face Plaques, Stelae, and Statues—Funerary images of faces and votive statues; may be combined with stone or ceramic sculpture; may be inscribed or painted. Approximate dates: 1200 B.C. to A.D. 1773.

G. Textiles

Linen cloth used for mummy wrapping. Approximate dates: 500 B.C. to A.D. 500.

H. Leather, Parchment, and Paper

1. Books and Manuscripts—Either scrolls, sheets, or bound volumes; including both secular texts and religious texts such as Qurans. Text is often written on vellum or other parchment (cattle, sheep, goat, or camel) and then gathered in leather bindings. Paper may also be used. Types include books and manuscripts, often written in brown ink, and then further embellished with colorful floral or geometric motifs; covers may also be stamped, gilded, or inset with metal, glass, and semi-precious stones. Approximate dates: A.D. 570 to 1773.

2. Items for Personal Adornment—Primarily in leather, including, but not limited to, belts, sandals, shoes, armor, necklaces, bracelets, and other types of jewelry.

I. Wood, Bone, Ivory, Shell, and Other Organics

1. Architectural and Non-architectural Relief Sculpture—Includes, but not limited to, carved and inlaid wood panels, rooms, beams, balconies, stages, panels, ceilings, and doors, frequently decorated with religious, floral, or geometric motifs; may have script in Arabic. Types include, but are not limited to, bone, ivory, and shell reliefs, plaques, stelae, and inlays; may be carved or sculpted; commonly include human or animal figures, floral, and/or geometric motifs. Approximate dates: 1200 B.C. to A.D. 1773.

2. Statuary and Figurines—Primarily small-size figurines; forms include, but are not limited to, human figures, which may be clothed or not; animals such as camels, ibex, oxen, bulls, and lions; and mythological creatures/figures. May be painted or inscribed/carved in relief in South Arabian, Arabic, or other script. Approximate dates: 1200 B.C. to A.D. 1773.

3. Furniture—Primarily in wood; may include thrones, other chairs, tables, and other forms. Approximate dates: 1200 B.C. to A.D. 1773.

4. Personal Ornaments and Objects of Daily Use—Types include, but are not limited to, amulets, combs, pins, spoons, small containers, bracelets, buckles, and beads. Wood, bone, ivory, and shell were also used either alone or as inlays in luxury objects including, but not limited to, furniture, chests and boxes, writing and painting equipment, musical instruments, games, cosmetic containers, combs, and jewelry. Approximate dates: 3500 B.C. to A.D. 1773.

5. Seals and Stamps—Small devices with at least one side engraved with a design for stamping or sealing; they can be discoid, cuboid, or conoid; may include animals, human figures, and/or inscriptions in various languages. Approximate dates: 1200 B.C. to A.D. 1773.

6. Inscribed Documents—Palm-leaf stalks and wooden sticks inscribed in South Arabian script. Approximate dates: 1200 B.C. to 570 A.D.

J. Human Remains

Bones, bone fragments, mummies, and mummified remains.

II. Ethnological Material

Restricted ethnological material from Yemen includes the categories listed below, ranging in date from approximately A.D. 1517 to 1918, and including architectural elements, manuscripts encompassing secular and Islamic religious texts, and Islamic religious and ceremonial objects. The categories of restricted material below exclude ethnological Jewish ceremonial or ritual objects and manuscripts. The following list is representative only.

A. Architectural Elements—This category includes architectural elements and decoration from historic structures in all materials. Primarily in stone (especially limestone, marble, and sandstone), metal (especially copper, brass, lead, and alloys), ceramic or baked clay (terracotta), glass, plaster or stucco, and wood; also includes inlays in bone and ivory. Includes ceilings, rooms, walls, and blocks and bricks from walls, floors, and ceilings; arches, beams, columns, capitals, bases, lintels, jambs, friezes, parapets, crenellations, merlons, pilasters, and tent posts; doors, door frames and fixtures, and window frames, fixtures, fittings, and panes; altars, balconies, chandeliers, finials, prayer niches (mihrabs), cenotaphs, sepulchers, screens, stages, pulpits (minbars), panels, plaques, fountains, wall ornaments, revetments, mosaics, tiles, inlays; and other forms. May be plain, molded, carved, inlaid, gilded, plastered, and/or painted; elements may bear Arabic inscriptions. Common decorative motifs include geometric, floral, arabesque (intertwining), and religious motifs, and may be incised or in high relief. Ceramic or terracotta tiles, plaques, bricks, and other elements may be glazed and/or painted.

B. Manuscripts—Consisting of scrolls, sheets, bound volumes, or boards, primarily written in Arabic and including both secular texts and Islamic religious texts such as Qurans. Text is often written on vellum, other parchment (cattle, sheep, goat, or camel), or paper, then gathered in leather bindings. Texts may also be written on wooden boards. Types include, but are not limited to, books, scrolls, manuscripts, and Islamic study tablets or Quran boards. Includes fragments. May be decorated with colorful religious, geometric, floral, or arabesque (intertwining) motifs and/or paintings.

C. Religious and Ceremonial Objects—This category includes objects typically used in Islamic communal religious and ceremonial settings in all materials. Primarily in stone, metal, ceramic, clay, glass, wood, bone, ivory, textiles, leather, and other organic materials.

1. Non-architectural Monuments—Primarily in stone (especially alabaster, limestone, and marble) or metal (especially copper, bronze, and brass). May take the form of carved slabs with religious, floral, geometric, or arabesque (intertwining) motifs. Types include, but are not limited to, plaques, stelae, memorial stones, tombstones, and cenotaphs; may bear Arabic inscriptions.

2. Vessels and Containers—Includes vessels and containers used in religious and ceremonial settings in stone (especially alabaster, limestone, and softstone), metal (especially silver, copper, bronze, brass, and other alloys), ceramic, glass, wood, bone, ivory, leather, and other materials. Types include, but are not limited to, mosque lamps; incense burners and braziers; candlesticks, candelabras, and sconces from religious settings; basins, ewers, and other vessels used for ablutions; reliquaries (and their contents); and scroll or manuscript containers, such as boxes, pouches, chests, cases, or caskets used to hold a Quran or other Islamic religious text. May be plain or decorated with floral, geometric, religious, arabesque (intertwining), or other motifs; may bear Arabic inscriptions.

3. Furniture—Primarily in wood and stone. Types include pulpits (minbars), prayer niches (mihrabs), screens, Quran holders or stands, lecterns, study tables, cabinets, and other furniture used in religious and ceremonial settings. May be carved, incised, painted, gilded, and/or inlaid with other materials; may be decorated with floral, geometric, religious, arabesque (intertwining), or other motifs; may bear Arabic inscriptions.

4. Textiles—Includes textiles used for religious and ceremonial purposes, primarily in linen, silk, and wool. Types include, but are not limited to, banners, hangings, and curtains used in religious and ceremonial settings; shrine covers; and shrouds. Often woven or embroidered in bright colors with floral, geometric, arabesque (intertwining), or religious designs, and/or Arabic inscriptions.

Inapplicability of Notice and Delayed Effective Date

This amendment involves a foreign affairs function of the United States and is, therefore, being made without notice or public procedure under 5 U.S.C. 553(a)(1). For the same reason, a delayed effective date is not required under 5 U.S.C. 553(d)(3).

Executive Orders 12866 and 13563

Executive Orders 12866 (Regulatory Planning and Review), as amended by Executive Order 14094 (Modernizing Regulatory Review), and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility. CBP has determined that this document is not a regulation or rule subject to the provisions of Executive Orders 12866 and 13563 because it pertains to a foreign affairs function of the United States, as described above, and therefore is specifically exempted by section 3(d)(2) of Executive Order 12866 and, by extension, Executive Order 13563.

Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking is not necessary for this rule, CBP is not required to prepare a regulatory flexibility analysis for this rule.

Signing Authority

This regulation is being issued in accordance with 19 CFR 0.1(a)(1) pertaining to the Secretary of the Treasury's authority (or that of the Secretary's delegate) to approve regulations related to customs revenue functions.

Troy A. Miller, the Senior Official Performing the Duties of the Commissioner, having reviewed and approved this document, has delegated the authority to electronically sign this document to the Director (or Acting Director, if applicable) of the Regulations and Disclosure Law Division for CBP, for purposes of publication in the Federal Register.

List of Subjects in 19 CFR Part 12

Cultural property, Customs duties and inspection, Imports, Prohibited merchandise, Reporting and recordkeeping requirements.

Amendments to the CBP Regulations

For the reasons set forth above, part 12 of title 19 of the Code of Federal Regulations (19 CFR part 12) is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, add an entry in alphabetical order for “Yemen” to the table in paragraph (a) and remove the entry for “Yemen” in the table in paragraph (b).

The addition reads as follows:

§ 12.104g Specific items or categories designated by agreements or emergency actions.

(a) * * *

State party | Cultural property | Decision No.
* * * * * * *
Yemen | Archaeological material of Yemen ranging in date from approximately 200,000 B.C. to A.D. 1773, and ethnological material of Yemen ranging in date from approximately A.D. 1517 through 1918 | CBP Dec. 24-15.

* * * * *

Robert F. Altneu,
Director, Regulations & Disclosure Law Division, Regulations & Rulings, Office of Trade U.S. Customs and Border Protection.
Approved:
Aviva R. Aron-Dine,
Acting Assistant Secretary of the Treasury for Tax Policy.

[FR Doc. 2024-20388 Filed 9-9-24; 8:45 am]

BILLING CODE 9111-14-P